ENVIRONMENTAL PROTECTION AGENCY

[FRL-8978-7; Docket ID No. EPA-HQ-ORD-2009-0245]

Draft Toxicological Review of Hydrogen Cyanide and Cyanide Salts: In Support of the Summary Information on the Integrated Risk Information System (IRIS)

AGENCY: Environmental Protection Agency (EPA).

ACTION: Notice of peer-review workshop.

SUMMARY: EPA is announcing that Versar, Inc., an EPA contractor for external scientific peer review, will convene an independent panel of experts and organize and conduct an external peer-review workshop to review the external review draft document titled, “Toxicological Review of Hydrogen Cyanide and Cyanide Salts: In Support of Summary Information on the Integrated Risk Information System (IRIS)” (EPA/635/R-08/016). The draft document was prepared by the National Center for Environmental Assessment (NCEA) within EPA's Office of Research and Development. EPA previously announced the 60-day public comment period (ending November 23, 2009) for the draft document in the Federal Register on September 23, 2009 (74 FR 48539). EPA will consider public comments and recommendations from the expert panel workshop as EPA finalizes the draft document.

The public comment period and the external peer-review workshop are separate processes that provide opportunities for all interested parties to comment on the document. EPA intends to forward public comments submitted in accordance with the September 23, 2009, Federal Register notice (74 FR 48539) to Versar, Inc., for consideration by the external peer-review panel prior to the workshop.

EPA is releasing this draft document solely for the purpose of pre-dissemination peer review under applicable information quality guidelines. This document has not been formally disseminated by EPA. It does not represent and should not be construed to represent any Agency policy or determination.

Versar, Inc. invites the public to register to attend this workshop as observers. In addition, Versar, Inc. invites the public to give oral and/or provide written comments at the workshop regarding the draft document under review. Space is limited, and reservations will be accepted on a first-come, first-served basis. The draft document and EPA's peer-review charge are available primarily via the Internet on NCEA's home page under the Recent Additions and Publications menus at http://www.epa.gov/ncea. In preparing a final report, EPA will consider Versar Inc.'s report of the comments and recommendations from the external peer-review workshop and any public comments that EPA receives.

DATES: The peer-review panel workshop will begin on December 14, 2009, at 9 a.m. and end at 5 p.m.

ADDRESSES: The peer-review workshop will be held at Marriott Courtyard Arlington Crystal City/Reagan National Airport, 2899 Jefferson Davis Highway, Arlington, VA 22202, telephone 703-549-3434. The EPA contractor, Versar, Inc. is organizing, convening, and conducting the peer-review workshop. To attend the workshop, register by December 7, 2009, by calling Versar, Inc. at 703-750-3000 extension 6897, sending a facsimile to 703-642-6954 or sending an e-mail to hriester@versar.com. You may also register via the Internet at http://epa.versar.com/hydrogencyanide.

The draft “Toxicological Review of Hydrogen Cyanide and Cyanide Salts: In Support of Summary Information on the Integrated Risk Information System (IRIS)” is available primarily via the Internet on the National Center for Environmental Assessment's home page under the Recent Additions and Publications menus at http://www.epa.gov/ncea. A limited number of paper copies are available from the Information Management Team, NCEA; telephone: 703-347-8561; facsimile: 703-347-8691. If you are requesting a paper copy, please provide your name, mailing address, and the document title, “Toxicological Review of Hydrogen Cyanide and Cyanide Salts: In Support of Summary Information on the Integrated Risk Information System (IRIS).” Copies are not available from Versar, Inc.

Information on Services for Individuals with Disabilities: EPA welcomes public attendance at the “Hydrogen Cyanide and Cyanide Salts peer-review workshop” and will make every effort to accommodate persons with disabilities. For information on access or services for individuals with disabilities, please contact Versar, Inc, preferably at least 10 days prior to the meeting, to give as much time as possible to process your request.

FOR FURTHER INFORMATION CONTACT: Questions regarding information, registration, access or services for individuals with disabilities, or logistics for the external peer-review workshop should be directed to Versar.

If you have questions about the document, please contact Kathleen Newhouse, National Center for Environmental Assessment (NCEA), (8601P) 1200 Pennsylvania Ave., Washington DC, 20460; telephone: 703-347-8641; facsimile: 703-347-8689; or e-mail: newhouse.kathleen@epa.gov.

SUPPLEMENTARY INFORMATION:

I. Information About IRIS

IRIS is a database that contains potential adverse human health effects information that may result from chronic (or lifetime) exposure to specific chemical substances found in the environment. The database (available on the Internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

Dated: October 29, 2009.
Rebecca Clark,
Acting Director, National Center for Environmental Assessment.

[FR Doc. E9-27051 Filed 11-9-09; 8:45 am]

BILLING CODE 6560-50-P